Title 3—

The President

Proclamation 9926 of September 13, 2019

National Farm Safety and Health Week, 2019

By the President of the United States of America

A Proclamation

During National Farm Safety and Health Week, we recognize the importance of the health and safety of our Nation's farmers, ranchers, and foresters. These hardworking Americans and their families endure long, strenuous hours of labor to provide for the American people and the world. We recommit to the wellbeing of all agricultural workers by pursuing initiatives that improve their work environments.

From operating dangerous heavy machinery to navigating harsh weather conditions, the men and women who work our country's rich land face significant risks on a daily basis as they labor to bring their products to market. According to the Bureau of Labor Statistics, 581 workers in agriculture and related industries died from a work-related injury in 2017, making agriculture one of the most dangerous jobs in the United States. We must redouble our efforts to ensure the health and safety of our agricultural producers by promoting the best safety practices and adopting innovative technologies that reduce risks. My Administration is committed to providing our Nation's farmers with the tools, training, and resources they need to remain both productive and healthy.

This week, we pledge to strive to improve practices that advance the health and safety of self-employed farm and ranch operators, their family members, and their hired workers. By raising awareness of the inherent risks associated with agricultural work, we can help sustain the success of this critical American industry. As American farmers and American consumers, we will work together to enhance the livelihoods of our farmers, ranchers, and foresters, because we know that when our farmers succeed, our Nation succeeds.

NOW, THEREFORE, I, DONALD J. TRUMP, President of the United States of America, by virtue of the authority vested in me by the Constitution and the laws of the United States, do hereby proclaim September 15 through September 21, 2019, as National Farm Safety and Health Week. I call upon the people of the United States, including America's farmers and ranchers and agriculture-related institutions, organizations, and businesses to reaffirm their dedication to farm safety and health. I also urge all Americans to honor our agricultural heritage and to express their appreciation and gratitude to our farmers, ranchers, and foresters for their important contributions and tireless service to our Nation.

IN WITNESS WHEREOF, I have hereunto set my hand this thirteenth day of September, in the year of our Lord two thousand nineteen, and of the Independence of the United States of America the two hundred and forty-fourth.

[FR Doc. 2019-20246

Filed 9-16-19; 11:15 am]

Billing code 3295-F9-P